DEPARTMENT OF THE INTERIOR

Fish and Wildlife Service

[Docket No. FWS-HQ-IA-2024-0200; FXIA16710900000-245-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by April 30, 2025.

ADDRESSES:

Obtaining Documents: The applications, application supporting materials, and any comments and other materials that we receive will be available for public inspection at https://www.regulations.gov in Docket No. FWS-HQ-IA-2024-0200.

Submitting Comments: When submitting comments, please specify the name of the applicant and the permit number at the beginning of your comment. You may submit comments by one of the following methods:

• Internet: https://www.regulations.gov. Search for and submit comments on Docket No. FWS-HQ-IA-2024-0200.

• U.S. Mail: Public Comments Processing, Attn: Docket No. FWS-HQ-IA-2024-0200;

• U.S. Fish and Wildlife Service Headquarters, MS: PRB/3W; 5275 Leesburg Pike; Falls Church, VA 22041-3803.

For more information, see Public Comment Procedures under SUPPLEMENTARY INFORMATION.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on applications. Before issuing any of the requested permits, we will take into consideration any information that we receive during the public comment period.

You may submit your comments and materials by one of the methods in ADDRESSES. We will not consider comments sent by email or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at https://www.regulations.gov unless our allowing so would violate the Privacy Act (5 U.S.C. 552a) or Freedom of Information Act (5 U.S.C. 552).

C. Who will see my comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Applicant: California Academy of Sciences; San Francisco, CA; Permit No. PER13300838

The applicant requests a permit to import blood samples taken from 20 wild-origin and 16 captive-born Philippine eagles (Pithecophaga jefferyi) to the California Academy of Sciences in San Francisco, California, for the purpose of scientific research, which will help with the propagation or survival of the species in the wild. This notification is for a single import.

Applicant: San Antonio Zoo, San Antonio, TX; Permit No. PER12668038

The applicant requests a permit to export one male and one female live captive-born Komodo Island monitors (Varanus komodoensis) to Toronto Zoo, Canada, for the purpose of enhancing the propagation or survival of the species. This notification is for a single export.

Applicant: Texas A&M University College Station, TX; Permit No. PER12713734

The applicant requests a permit to import biological samples collected from wild Hispaniolan solenodon (Solenodon paradoxus) in the Dominican Republic, for the purpose of scientific research. This notification is for a single import.

Applicant: Marra Lab, Georgetown University, Washington, DC; Permit No. PER13890062

The applicant requests a permit to import biological samples collected from wild yellow-billed cuckoo (Coccyzus americanus) in Paraguay and Argentina, for the purpose of scientific research. This notification covers activities to be conducted by the applicant over a 5-year period.

Applicant: University of Washington, D/B/A Center for Environmental Forensic Science, Seattle, WA; Permit No. PER11893140

The applicant requests authorization to import biological samples of wild and captive ground pangolin (Manis temminckii) from multiple countries for the purpose of enhancing the propagation or survival of the species through scientific research. This notification covers activities to be conducted by the applicant over a 5-year period.

Applicant: East Texas Ranch, D/B/A Lazy W Ranch, Athens, TX; Permit No. PER13945221

The applicant requests a captive-bred wildlife registration under 50 CFR 17.21(g) for the swamp deer (Cervus duvauceli) and red lechwe (Kobus lechwe), to enhance the propagation or survival of the species. This notification covers activities to be conducted by the applicant over a 5-year period.

Applicant: University of Kansas Biodiversity Institute, Lawrence, KS; Permit No. PER13883087

The applicant requests authorization to export and re-import nonliving museum specimens of endangered species previously accessioned into the applicant's collection for scientific research. This notification covers activities to be conducted by the applicant over a 5-year period.

Applicant: University of Wyoming Museum of Vertebrates, Laramie, WY; Permit No. PER13884218

The applicant requests authorization to export and re-import nonliving museum specimens of endangered species previously accessioned into the applicant's collection for scientific research. This notification covers activities to be conducted by the applicant over a 5-year period.

Applicant: East Texas Ranch/dba Lazy W Ranch, Athens, TX; Permit No. PER13944433

The applicant requests a permit authorizing the culling of excess swamp deer (Cervus duvauceli) and red lechwe (Kobus leche) from the captive herd maintained at their facility, to enhance the species' propagation and survival. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

• Applicant: Guy Gelakoski, Andover, MN; Permit No. PER13774784

• Applicant: Kerry Jones, Bowling Green, KY; Permit No. PER13774849

• Applicant: Michael Anderson, San Antonio, TX; Permit No. PER13784424

• Applicant: Jesse David Palmer Jr., Spring Branch, TX; Permit No. PER13800404

IV. Next Steps

After the comment period closes, we will make decisions regarding permit issuance. If we issue permits to any of the applicants listed in this notice, we will publish a notice in the Federal Register. You may locate the notice announcing the permit issuance by searching https://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Timothy MacDonald,
Government Information Specialist, Branch of Permits, Division of Management Authority.

[FR Doc. 2025-05439 Filed 3-28-25; 8:45 am]

BILLING CODE 4333-15-P